DEPARTMENT OF HEALTH AND HUMAN SERVICES

Food and Drug Administration

[FDA 225-06-8400]

Memorandum of Understanding Between the Food and Drug Administration, United States Department of Health and Human Services, the Animal and Plant Health Inspection Service, the United States Department of Agriculture, and The National Institutes of Health, United States Department of Health and Human Services Concerning Laboratory Animal Welfare

AGENCY: Food and Drug Administration, HHS.

ACTION: Notice.

SUMMARY: The purpose of this Memorandum of Understanding (MOU) is to set forth an agreement between the Animal and Plant Health Inspection Service, U.S. Department of Agriculture, and the National Institutes of Health, U.S. Department of Health and Human Services concerning Laboratory Animal Welfare and FDA (collectively “the Parties”, or individually as a “Party”) regarding the framework for reciprocal cooperation which will assist each agency in meeting its responsibilities in promoting proper laboratory animal care and welfare. This MOU replaces 225-83-8400.

DATES: The agreement became effective February 14, 2006.

FOR FURTHER INFORMATION CONTACT:

For FDA: Rodney T. Allnut, Office of Enforcement, Office of Regulatory Affairs, Food and Drug Administration, HFC-230, rm. 126, 15800 Crabbs Branch, Rockville, MD 20855, 240-632-6848, FAX: 240-632-6861.

For USDA: Chester Gipson, Animal and Plant Health Inspection Service, U.S. Department of Agriculture, 4700 River Rd., Unit 97, rm. 6A-16, Riverdale, MD 20737-1234, 301-734-4980, FAX: 301-734-4993.

For NIH: Carol Wigglesworth, Office of Laboratory Animal Welfare, Office of Extramural Research, National Institutes of Health, Rockwall I, suite 1050, MSC 7982, 6705 Rockledge Dr., Bethesda, MD 20892-7982, 301-496-7163, FAX: 301-402-2803.

SUPPLEMENTARY INFORMATION: In accordance with 21 CFR 20.108(c), which states that all written agreements and MOUs between FDA and others shall be published in the Federal Register, the agency is publishing notice of this MOU.

Dated: April 26, 2006.
Jeffrey Shuren,
Assistant Commissioner for Policy.

BILLING CODE 4160-01-S

F>

[FR Doc. 06-4184 Filed 5-2-06; 8:45 am]

BILLING CODE 4160-01-C